DEPARTMENT OF JUSTICE

Antitrust Division

Notice Pursuant to the National Cooperative Research and Production Act of 1993—AllSeen Alliance, Inc.

Notice is hereby given that, on February 23, 2016, pursuant to section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, Onbiron Bilişim, Ar-Ge Ltd. Şti, Çankaya, Ankara, TURKEY; Integrated Service Technology, Inc., Hsinchu City, TAIWAN; Y8 studio, Inc., West Hollywood, CA; Enphase Energy, Inc., Petaluma, CA; General Mobile Corporation, Taipei, TAIWAN; and Domotz UK LLP, London, UNITED KINGDOM, have been added as parties to this venture.

Also, 2lemetry LLC, Denver, CO; D-Link Systems, Inc., Fountain Valley, CA; HTC Corporation, Taoyuan County, TAIWAN; Patavina Technologies s.r.l. Padova, ITALY; Silicon Image, Sunnyvale, CA; The Sprosty Network, Fort Lauderdale, FL; GeoPal Solutions, Dublin, IRELAND; and Openmind Networks, Inc., Mountain View, CA, have withdrawn as parties to this venture.

In addition, Beijing HengShengDongYang Technology Co., Ltd., has changed its name to Beijing SmartConn, ChaoYang District, Beijing, PEOPLE'S REPUBLIC OF CHINA.

No other changes have been made in either the membership or planned activity of the group research project. Membership in this group research project remains open, and AllSeen Alliance intends to file additional written notifications disclosing all changes in membership.

On January 29, 2014, AllSeen Alliance filed its original notification pursuant to section 6(a) of the Act. The Department of Justice published a notice in the Federal Register pursuant to section 6(b) of the Act on March 4, 2014 (79 FR 12223).

The last notification was filed with the Department on December 18, 2015. A notice was published in the Federal Register pursuant to section 6(b) of the Act on January 22, 2016 (81 FR 3821).

Patricia A. Brink,
Director of Civil Enforcement, Antitrust Division.

[FR Doc. 2016-06242 Filed 3-18-16; 8:45 am]

BILLING CODE P